DEPARTMENT OF ENERGY

Federal Energy Regulatory Commission

[Project No. 6375-006]

H.E.E.D. Co., Inc.; Notice of Availability of Environmental Assessment

April 26, 2000.

In Accordance with the National Environmental Policy Act of 1969 and the Federal Energy Regulatory Commission's (Commission's) regulations, 18 CFR part 380 (Order 486, 52 FR 47897), the Commission's Office of Hydropower Licensing has reviewed the revocation of the exemption for the Slaughterhouse Gulch Project, No. 6375-006. The Slaughterhouse Gulch Project is located on Slaughterhouse Gulch Creek in Twin Falls County, Idaho. The exemption is being revoked for failure to operate the project or to respond to requests to surrender the exemption. A Final Environmental Assessment (FEA) was prepared, and the FEA finds that revoking the exemption would not constitute a major federal action significantly affecting the quality of the human environment.

The FEA has been attached to and made a part of an Order Revoking Exemption from licensing, issued April 26, 2000, for the Slaughterhouse Gulch Project (FERC No. 6375-006). The FEA is available for inspection and reproduction at the Commission's Public Reference and Information Center, Room 2A, 888 First Street, N.E., Washington, D.C. 20426. Copies of the FEA also may be obtained by calling (202) 208-1371, or by e-mail at Public.ReferenceRoom@ferc.fed.us. The FEA may also be viewed on the Commission's web site at http://www.ferc.fed.us/online/rims.htm (call (202) 208-2222 for assistance).

David P. Boergers,
Secretary.

[FR Doc. 00-10888 Filed 5-1-00; 8:45 am]

BILLING CODE 6717-01-M